DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Field Staff Exit Questionnaires.

OMB Control Number: 0607-0404.

Form Number(s): BC-1294, BC-1294D.

Type of Request: Revision of a currently approved collection.

Burden Hours: 84.

Number of Respondents: 650.

Average Hours per Response: BC-1294 = 7 minutes, BC-1294D = 10 minutes.

Needs and Uses: Retention of trained field interviewing staff is a major concern for the Census Bureau because of both the monetary costs associated with employee turnover, as well as the potential impact on data quality. Therefore, in a continuous effort to devise policies and practices aimed at reducing turnover among interviewers, the Census Bureau collects data on the reasons interviewers leave their Census Bureau jobs.

The exit questionnaires are the instruments we use to collect turnover data from a sample of former current survey interviewers (field representatives) and decennial census interviewers (enumerators and listers). The goal or purpose of the exit questionnaires is to determine the reasons for interviewer turnover and what the Census Bureau might have done, or can do, to influence interviewers not to leave. Thus the exit questionnaires seek reasons interviewers quit, inquire about motivational factors that would have kept interviewers from leaving, attempt to identify training program strengths and weaknesses and their impacts on turnover, and explore the impact of pay, working conditions and supervisory styles on employees' reasons for quitting.

As the environment in which surveys take place, the demographics of our labor force and the way surveys are conducted continues to change, it is important that we continue to examine the interviewers' concerns about their job. Information provided by respondents to the exit questionnaire provides insight on the measures the Census Bureau might take to decrease turnover, and is useful in helping us determine if the reasons for interviewer turnover appear to be systemic or localized. The exit questionnaires have shown to be useful and, therefore, we believe it is important to continue to use them to affect program planning and management.

Forms BC-1294 and the BC-1294(D) are the instruments we currently use to collect turnover data from a sample of former current survey interviewers, and decennial census listers/enumerators, respectively.

This submission includes changes to the BC-1294, which reflect Census Bureau policy and procedural changes to current surveys since the last request for clearance. This submission does not include changes to the BC-1294(D). We are dropping the BC-1294(CM), Coverage Measurement Exit Questionnaire, from this clearance.

Affected Public: Individuals.

Frequency: One time.

Respondent's Obligation: Voluntary.

Legal Authority: Title 5 U.S.C., Sections 301, 2301 and 3101.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin,

OMB Desk Officer either by fax (202-395-7245) or email (bharrisk@omb.eop.gov).

Dated: May 21, 2012.
Glenna Mickelson,
Management Analyst, Office of the Chief Information Officer.

[FR Doc. 2012-12697 Filed 5-24-12; 8:45 am]

BILLING CODE 3510-07-P